DEPARTMENT OF TRANSPORTATION

Office of the Secretary

14 CFR Part 382

[Docket No. DOT-OST-2022-0144]

RIN 2105-AF14

Ensuring Safe Accommodations for Air Travelers With Disabilities Using Wheelchairs

AGENCY: Office of the Secretary of Transportation (OST), U.S. Department of Transportation.

ACTION: Notification of enforcement discretion.

SUMMARY: This document announces that the U.S. Department of Transportation (DOT) is delaying enforcement of certain provisions of the final rule on “Ensuring Safe Accommodations for Air Travelers With Disabilities Using Wheelchairs” (Wheelchair Rule) while it engages in a new rulemaking that will consider whether to modify those provisions. As described below, this exercise of enforcement discretion applies to provisions of the Wheelchair Rule related to airline liability for mishandled wheelchairs, refresher training frequency, pre-departure notifications, and fare difference reimbursements. This exercise of enforcement discretion is intended to remove the burden of complying with requirements under review by DOT and does not prejudge the outcome of the new rulemaking. This notice does not affect the enforcement of requirements in the Wheelchair Rule beyond the four identified provisions.

DATES: As of September 30, 2025, enforcement of 14 CFR 382.125(e), 382.130(a), 382.132, and 382.141(a)(6) contained in the Wheelchair Rule, published on December 17, 2024, at 89 FR 102398, is delayed until December 31, 2026.

ADDRESSES: This notification of enforcement discretion, the notice of proposed rulemaking (NPRM), all comments received, the final rule, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.GovInfo.gov.

FOR FURTHER INFORMATION CONTACT: Tori Ford, Vinh Nguyen, or Blane Workie, Office of Aviation Consumer Protection, U.S. Department of Transportation, 1200 New Jersey Ave. SE, Washington, DC 20590, 202-366-9342 (phone), 202-366-7152 (fax), victoria.ford@dot.gov, vinh.nguyen@dot.gov, or blane.workie@dot.gov (email).

SUPPLEMENTARY INFORMATION: On December 17, 2024, DOT issued a final rule on “Ensuring Safe Accommodations for Air Travelers With Disabilities Using Wheelchairs” (Wheelchair Rule). See 89 FR 102398. The final rule, which included certain provisions required by the FAA Reauthorization Act of 2024 (2024 FAA Act), expanded existing airline obligations in 14 CFR part 382 regarding the treatment of air travelers with disabilities. More specifically, the final rule established new requirements in various areas such as training for airline personnel and contractors, assistance to passengers who use wheelchairs in embarking and disembarking from aircraft and moving within the terminal, and airlines' obligations should wheelchairs or scooters be mishandled. The final rule became effective on January 16, 2025; however, individual requirements in the final rule have varying implementation times, ranging from January 16, 2025 to June 17, 2026 for training requirements.

DOT previously announced that it would exercise its enforcement discretion and not enforce the Wheelchair Rule until March 20, 2025. See 90 FR 9953 (Feb. 20, 2025). DOT subsequently extended its enforcement discretion and announced it would not enforce the Wheelchair Rule until August 1, 2025. See 90 FR 24319 (June 10, 2025). DOT explained that additional time was needed for the officials appointed or designated by the President to review the Wheelchair Rule to ensure that it is consistent with the law, including the requirements of the 2024 FAA Act, and Administration policies, and to consider the issues raised by a lawsuit.

The Department has now initiated a new rulemaking titled “Airline Obligations to Accommodate Air Travelers with Disabilities Using Wheelchairs” (Wheelchair Rule II).¹ The 2025 Spring Unified Agenda identifies four provisions of the Wheelchair Rule that will be among those considered in Wheelchair Rule II: (1) airlines' liability when passengers' wheelchairs or other assistive devices are not timely returned in the condition they were received; ² (2) frequency of required refresher training of airline employees and contractors; ³ (3) pre-departure notifications to passengers that check wheelchairs or scooters of their right to contact a Complaint Resolution Official and file a claim; ⁴ and (4) reimbursements of the difference between the fare on a flight a wheelchair or scooter user took, and the fare on a flight that the wheelchair or scooter user would have taken if his or her wheelchair or scooter had been able to fit on the flight.⁵

¹ Spring 2025 Unified Agenda of Regulatory and Deregulatory Actions, Department of Transportation, Airline Obligations to Accommodate Air Travelers with Disabilities Using Wheelchairs (RIN 2105-AF35) at https://www.reginfo.gov/public/do/eAgendaViewRule?pubId=202504&RIN=2105-AF35.

² Codified at 14 CFR 382.130(a).

³ Codified at 14 CFR 382.141(a)(6).

⁴ Codified at 14 CFR 382.125(e).

⁵ Codified at 14 CFR 382.132.

DOT has announced a target date of August 2026 for issuance of a notice of proposed rulemaking (NPRM) for Wheelchair Rule II.⁶ A typical comment period for an NPRM is 60 days. DOT intends to carefully consider all comments received (including late comments to the extent practicable) before issuing a final rule, if appropriate. As such, DOT believes that the public interest would be best served by DOT exercising its discretion to temporarily pause enforcement of the four provisions identified above until a decision is made on whether to move forward with a final rule. The earliest date that DOT expects to make such determination is December 31, 2026. This notice of enforcement discretion does not affect the enforcement of requirements in the Wheelchair Rule beyond the four identified above.

⁶ Spring 2025 Unified Agenda of Regulatory and Deregulatory Actions, Department of Transportation, Airline Obligations to Accommodate Air Travelers with Disabilities Using Wheelchairs (RIN 2105-AF35) at https://www.reginfo.gov/public/do/eAgendaViewRule?pubId=202504&RIN=2105-AF35.

Issued in Washington, DC, under authority delegated in 49 CFR 1.27(a).
Gregory D. Cote,
Acting General Counsel.

[FR Doc. 2025-18980 Filed 9-29-25; 8:45 am]

BILLING CODE 4910-9X-P